ENVIRONMENTAL PROTECTION AGENCY

[FRL-7886-9]

Science Advisory Board Staff Office; Notification of an Upcoming Meeting of the Science Advisory Board Metals Risk Assessment Framework Review Panel

AGENCY: Environmental Protection Agency (EPA).

ACTION: Notice.

SUMMARY: The EPA Science Advisory Board (SAB) Staff Office announces a public teleconference of the SAB Metals Risk Assessment Framework Review Panel.

DATES: The public teleconference will be held on April 5, 2005, from 12 p.m. to 3 p.m. (eastern time).

FOR FURTHER INFORMATION CONTACT: Any member of the public wishing to obtain the teleconference call-in number and access code to participate in the teleconference may contact Dr. Thomas Armitage, Designated Federal Officer (DFO), U.S. EPA Science Advisory Board by telephone/voice mail at (202) 343-9995, or via e-mail at armitage.thomas@epa.gov. The SAB Mailing address is: U.S. EPA, Science Advisory Board (1400F), 1200 Pennsylvania Avenue, NW., Washington, DC 20460. General information about the SAB may be found in the SAB Web site at http://www.epa.gov/sab.

SUPPLEMENTARY INFORMATION: Background: Pursuant to the Federal Advisory Committee Act, Pub. L. 92-463, notice is hereby given that the SAB Metals Risk Assessment Framework Review Panel will hold a public teleconference to discuss its draft review report on EPA's Framework for Inorganic Metals Risk Assessment. The Panel conducted a peer review of the Framework at a public meeting held on February 1-3, 2005 and has prepared a draft report to EPA. Background information on the Panel and its review of the Framework for Inorganic Metals Risk Assessment was provided in Federal Register notices published on July 29, 2004 (69 FR 45314-45315), and January 11, 2005 (70 FR 1888-1889). The Panel is holding the teleconference to review its draft report and identify any clarifications needed for the final draft report to the SAB. The teleconference agenda and the draft advisory report will be posted on the SAB Web site prior to the teleconference. EPA's draft Framework for Inorganic Metals Risk Assessment may be found at: http://cfpub2.epa.gov/ncea/raf/recordisplay.cfm?deid=88903.

Procedures for Providing Public Comment: It is the policy of the EPA Science Advisory Board (SAB) Staff Office to accept written public comments of any length, and to accommodate oral public comments whenever possible. The EPA SAB Staff Office expects that public statements presented at the Metals Risk Assessment Framework Review Panel teleconference will not be repetitive of previously submitted oral or written statements. Oral Comments: In general, each individual or group requesting an oral presentation at a conference call meeting will be limited to no more than three minutes per speaker and no more than fifteen minutes total. Interested parties should contact the DFO in writing via e-mail at least one week prior to the teleconference in order to be placed on the public speaker list. Written Comments: Although written comments are accepted until the date of the teleconference (unless otherwise stated), written comments should be received in the SAB Staff Office at least one week prior to the teleconference date so that the comments may be made available to the committee or panel for their consideration. Comments should be supplied to the DFO at the address/contact information above in the following formats: One hard copy with original signature, and one electronic copy via e-mail (acceptable file format: Adobe Acrobat, WordPerfect, Word, or Rich Text files (in IBM-PC/Windows 95/98 format)).

Meeting Accommodations: Individuals requiring special accommodation to access the teleconference, should contact the relevant DFO at least five business days prior to the meeting so that appropriate arrangements can be made.

Dated: March 11, 2005.
Vanessa T. Vu,
Director, EPA Science Advisory Board Staff Office.

[FR Doc. 05-5415 Filed 3-17-05; 8:45 am]

BILLING CODE 6560-50-P